DEPARTMENT OF COMMERCE

National Oceanic and Atmospheric Administration

50 CFR Part 648

RIN 0648-XE888

Mid-Atlantic Fishery Management Council (MAFMC); New England Fishery Management Council (NEFMC); Public Hearings

AGENCY: National Marine Fisheries Service (NMFS), National Oceanic and Atmospheric Administration (NOAA), Commerce.

ACTION: Notice of public hearings; request for comments.

SUMMARY: The Mid-Atlantic and New England Fishery Management Councils are developing an omnibus amendment to allow for industry-funded monitoring. This amendment includes omnibus alternatives that would modify all the fishery management plans managed by the Mid-Atlantic and New England Fishery Management Councils to allow for standardized and streamlined development of future industry-funded monitoring programs. Additionally, this amendment includes alternatives for new industry-funded monitoring programs for the Atlantic Herring Fishery Management Plan and the Atlantic Mackerel, Squid, and Butterfish Fishery Management Plan.

DATES: Written comments on the Industry-Funded Monitoring Omnibus Amendment (IFM Amendment) will be accepted from Friday, September 23, 2016, until Monday, November 7, 2016.

ADDRESSES: You may submit written comments by any of the following methods:

• Electronic Submission: Submit all electronic public comments via the Federal e-Rulemaking Portal. Go to www.regulations.gov/#!docketDetail;D=NOAA-NMFS-2016-0125, click the “Comment Now!” icon, complete the required fields, and enter or attach your comments;

• Mail: John K. Bullard, Regional Administrator, NMFS, Greater Atlantic Regional Fisheries Office, 55 Great Republic Drive, Gloucester, MA 01930. Mark the outside of the envelope “Comments on IFM Omnibus Amendment;”

• Comments may also be provided verbally at any of the five public hearings. See SUPPLEMENTARY INFORMATION for dates, times, and locations.

FOR FURTHER INFORMATION CONTACT: Daniel Luers, Fishery Management Specialist, (978) 282-8457. The IFM Amendment will be available on the NMFS Greater Atlantic Regional Office Web site (www.greateratlantic.fisheries.noaa.gov) and the Council Web sites (www.mafmc.org, www.nefmc.org) starting on September 23, 2016. In addition, please visit any of the Web sites for details on meeting locations, webinar listen-in access, and public hearing materials.

SUPPLEMENTARY INFORMATION: The Mid-Atlantic and the New England Fishery Management Councils have initiated an amendment to allow for industry-funded monitoring in all of the fishery management plans managed by the Councils. The industry-funded monitoring would be used to assess the amount and type of catch, more precisely monitor annual catch limits, and provide other information for management. This increased monitoring would be above coverage required under the standardized bycatch reporting methodology, the Endangered Species Act, or the Marine Mammal Protection Act. The amount of available Federal funding to support additional monitoring and legal constraints associated with sharing the costs of industry-funded monitoring between NMFS and the fishing industry have recently prevented NMFS from approving proposals for industry-funded monitoring in some fisheries.

The Omnibus Alternatives consider the following for new industry-funded monitoring programs: (1) Standard cost responsibilities associated with industry-funded monitoring for NMFS and the fishing industry; (2) a process for fishery management plan-specific industry-funded monitoring to be implemented via a future framework adjustment action; (3) standard administrative requirements for industry-funded monitoring service providers; (4) a process to prioritize industry-funded monitoring programs in order to allocate available Federal resources across all fishery management plans; and (5) a process for monitoring set-aside programs to be implemented via a future framework adjustment action.

This amendment also includes industry-funded monitoring coverage target alternatives for the Atlantic herring and mackerel fisheries. Specifically, this amendment considers a variety of monitoring types and coverage targets to address the following goals: (1) Accurate estimates of catch (retained and discarded); (2) accurate catch estimates for incidental species for which catch caps apply; and (3) effective and affordable monitoring for the herring and mackerel fisheries.

Public Hearings

The dates and locations of the public hearings are as follows.

• Tuesday, October 4, 2016, 6-8 p.m., Greater Atlantic Regional Fisheries Office, 55 Great Republic Drive, Gloucester, MA 01930, telephone: (978) 281-9300;

• Monday, October 17, 2016, 5-7 p.m., Internet webinar, connection information to be available at (http://mafmc.adobeconnect.com/ifm-hearing/) or by contacting NMFS or either Council at the above addresses.

• Thursday, October 20, 2016, 6-8 p.m., Double Tree by Hilton Hotels, 363 Maine Mall Road, Portland, ME 04106, telephone: (207) 775-6161;

• Thursday, October 27, 2016, 5-7 p.m., Congress Hall, 200 Congress Place, Cape May, NJ 08204, telephone: (888) 944-1816;

• Tuesday, November 1, 2016, 6-8 p.m., Corless Auditorium, Watkins Building University of Rhode Island Graduate School of Oceanography, 218 Ferry Road, Narragansett, RI 02874.

Special Accommodations

These public hearings are accessible to people with disabilities. Requests for sign language interpretation or other auxiliary aid should be directed to Dr. Fiona Hogan (NEFMC) at fhogan@nefmc.org, (978) 465-0492 (x121), or Jason Didden (MAFMC) at jdidden@mafmc.org, (302) 526-5254, at least 5 days prior to the meeting date.

Authority: 16 U.S.C. 1801 et seq.

Dated: September 14, 2016.
Emily H. Menashes,
Acting Director, Office of Sustainable Fisheries, National Marine Fisheries Service.

[FR Doc. 2016-22493 Filed 9-19-16; 8:45 am]

BILLING CODE 3510-22-P